DEPARTMENT OF ENERGY

Federal Energy Regulatory Commission

18 CFR Part 35

[Docket No. RM13-2-000]

Small Generator Interconnection Agreements and Procedures

AGENCY: Federal Energy Regulatory Commission, Energy.

ACTION: Final rule; correction.

SUMMARY: This document contains corrections to the final rule (RM13-2-000) which was published in the Federal Register of Thursday, December 5, 2013 (78 FR 73239). The regulations revised the pro forma Small Generator Interconnection Procedures (SGIP) and pro forma Small Generator Interconnection Agreement (SGIA) originally set forth in Order No. 2006.

DATES: Effective on February 3, 2014.

FOR FURTHER INFORMATION CONTACT:

Leslie Kerr (Technical Information), Office of Energy Policy and Innovation, Federal Energy Regulatory Commission, 888 First Street NE., Washington, DC 20426, (202) 502-8540, Leslie.Kerr@ferc.gov.

Monica Taba (Technical Information), Office of Electric Reliability, Federal Energy Regulatory Commission, 888 First Street NE., Washington, DC 20426, (202) 502-6789, Monica.Taba@ferc.gov.

Elizabeth Arnold (Legal Information), Office of the General Counsel, Federal Energy Regulatory Commission, 888 First Street NE., Washington, DC 20426, (202) 502-8687, Elizabeth.Arnold@ferc.gov.

SUPPLEMENTARY INFORMATION: 146 FERC ¶ 61,019

Errata Notice

On November 22, 2013, the Commission issued an order in the above-referenced docket. Small Generator Interconnection Agreements and Procedures, 145 FERC ¶ 61,159 (2013). This errata notice serves to correct references to Small Generator Interconnection Procedures (SGIP) section numbers in the order and the pro forma SGIP, and to make other typographical corrections.

In FR Doc. 2013-28515 appearing on page 73239 in the Federal Register of Thursday, December 5, 2013, the following corrections are made:

1. On page 73256, in the second column, footnote 221 is corrected to read as follows:

“ ²²¹ The Commission adds the following language to the first paragraph of section 2.1 of the SGIP:

However, Fast Track eligibility is distinct from the Fast Track Process itself, and eligibility does not imply or indicate that a Small Generating Facility will pass the Fast Track screens in section 2.2.1 below or the Supplemental Review screens in section 2.4.4 below.”

2. On page 73259, in the third column, the third sentence of paragraph 142 is corrected to read as follows:

“Regarding NRECA, EEI & APPA's assertion that the use of 100 percent of minimum load limits the flexibility to move loads and the ability to deploy additional sectionalizing devices for reliability enhancement, we note that one of the factors to be considered in the safety and reliability screen of the supplemental review asks whether operational flexibility is reduced by the proposed Small Generating Facility (see SGIP section 2.4.4.3.5).”

3. On page 73264, in the second column, the last sentence of paragraph 182 is corrected to read as follows:

“We do, however, modify section 2.4.5.2 to include language that the Transmission Provider will provide an interconnection agreement to the Interconnection Customer if the Interconnection Customer agrees to pay for the modifications to the Transmission Provider's system, similar to the language in section 2.3.1 of the SGIP.”

4. On page 73271, in the first column, footnote 449 is corrected to read as follows:

“ ⁴⁴⁹ NRECA, EEI & APPA at 29 (quoting the NOPR, FERC Stats. & Regs. ¶ 32,697 at P 1, n. 4) (emphasis added).

5. On page 73288, the last sentence of the first paragraph in section 2.1 of Appendix C, Revisions to the Pro Forma SGIP, is corrected to read as follows:

“However, Fast Track eligibility is distinct from the Fast Track Process itself, and eligibility does not imply or indicate that a Small Generating Facility will pass the Fast Track screens in section 2.2.1 below or the Supplemental Review screens in section 2.4.4 below.”

6. On page 73293, the table in section 2.2.1.6 of Appendix C, Revisions to the Pro Forma SGIP, is corrected to read as follows:

Primary distribution line type | Type of interconnection to primary distribution line | Result/criteria
Three-phase, three wire | 3-phase or single phase, phase-to-phase | Pass screen.
Three-phase, four wire | Effectively-grounded 3 phase or Single-phase, line-to-neutral | Pass screen.

7. On page 73297, the first sentence of section 2.4.4.1.1 of Appendix C, Revisions to the Pro Forma SGIP is corrected to read as follows:

“The type of generation used by the proposed Small Generating Facility will be taken into account when calculating, estimating, or determining circuit or line section minimum load relevant for the application of screen 2.4.4.1.”

8. On pages 73299 and 73300, sections 2.4.5.1, 2.4.5.2, and 2.4.5.3 of Appendix C, Revisions to the Pro Forma SGIP, are corrected to read as follows:

“2.4.5.1 If the proposed interconnection passes the supplemental screens in sections 2.4.4.1, 2.4.4.2, and 2.4.4.3 above and does not require construction of facilities by the Transmission Provider on its own system, the interconnection agreement shall be provided within ten Business Days after the notification of the supplemental review results.

2.4.5.2 If interconnection facilities or minor modifications to the Transmission Provider's system are required for the proposed interconnection to pass the supplemental screens in sections 2.4.4.1, 2.4.4.2, and 2.4.4.3 above, and the Interconnection Customer agrees to pay for the modifications to the Transmission Provider's electric system, the interconnection agreement, along with a non-binding good faith estimate for the interconnection facilities and/or minor modifications, shall be provided to the Interconnection Customer within 15 Business Days after receiving written notification of the supplemental review results.

2.4.5.3 If the proposed interconnection would require more than interconnection facilities or minor modifications to the Transmission Provider's system to pass the supplemental screens in sections 2.4.4.1, 2.4.4.2, and 2.4.4.3 above, the Transmission Provider shall notify the Interconnection Customer, at the same time it notifies the Interconnection Customer with the supplemental review results, that the Interconnection Request shall be evaluated under the section 3 Study Process unless the Interconnection Customer withdraws its Small Generating Facility.”

9. On page 73349, Section 10.0 of Attachment 8 (Facilities Study Agreement) to Appendix C, Revisions to the Pro Forma SGIP, is corrected to read as follows:

“10.0 Within ten Business Days of providing a draft Interconnection Facilities Study report to Interconnection Customer, Transmission Provider and Interconnection Customer shall meet to discuss the results of the Interconnection Facilities Study.”

Dated: January 15, 2014.
Nathaniel J. Davis, Sr.,
Deputy Secretary.

[FR Doc. 2014-01074 Filed 1-23-14; 8:45 am]

BILLING CODE 6717-01-P